DEPARTMENT OF TRANSPORTATION

Federal Aviation Administration

14 CFR Part 73

[Docket No. FAA-2018-0102; Airspace Docket No. 17-AWP-20]

Modification to Restricted Areas R-2501E, R-2501N, R-2501W, and R-2501S; Bullion Mountains, CA

AGENCY: Federal Aviation Administration (FAA), DOT.

ACTION: Final rule, technical amendment.

SUMMARY: This action amends the internal subdivision of R-2501 at United States Marine Corps (USMC) Air Ground Combat Center, Twentynine Palms, CA. Restricted Areas R-2501E, R-2501N, R-2501S, and R-2501W; Bullion Mountains, CA will be deleted and reestablished as restricted areas R-2501A, R-2501B, R-2501C, R-2501D, and R-2501E. This action does not alter the overall vertical or lateral boundary of the restricted area complex, designated altitudes, times of designation, controlling agency, using agency, or activities conducted within the Twentynine Palms complex.

DATES: Effective date 0901 UTC, May 24, 2018.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it removes restricted areas R-2501E, R-2501N, R-2501S, and R-2501W; Bullion Mountains, CA and realigns the internal boundaries of the Twentynine Palms Complex to restricted areas R-2501A, R-2501B, R-2501C, R-2501D, and R-2501E; Bullion Mountains, CA.

Background

In January 2015, a Special Use Airspace (SUA) review team comprised of members from the FAA and the USMC convened for the purpose of evaluating the safety and efficiency of R-2501 as an integral part of the National Airspace System (NAS). The team recognized that R-2501 is situated in a highly dynamic and increasingly strategic area within the NAS due to its close proximity to multiple large capacity terminal areas in Southern California, numerous arrival and departure routings, and expected future enhancements such as METROPLEX procedures to promote efficiency.

Although it was the consensus of the Team for the retention of R-2501, there was also agreement that improvements to the scheduling and coordination processes must be made to enhance efficiency to the NAS and allow more frequent access to non-participating aircraft while maintaining the availability of R-2501 to meet mission requirements. Accordingly, a functional working group was convened from team members to collaboratively identify where efficiencies and improvements could be made in meeting these objectives.

One major potential improvement decided upon was to redesign the internal subdivisions of R-2501 from their current “puzzle piece” depiction to reflect a more layered configuration oriented along a northwest-southeast axis without actually changing the existing peripheral boundary of the restricted area. Thus, the aggregate geographical footprint of R-2501 will remain unchanged, while only the internal sectorization is altered. After several negotiations between the FAA and USMC, a final prototype was agreed on and placed into operational use in July 2017 through an update to the joint-use Letter of Procedure between Los Angeles Air Route Traffic Control Center (ARTCC) and USMC. Immediate and continued feedback has been positive from all concerned and the FAA is taking action to legally change the existing internal boundaries of R-2501N, R-2501E, R-2501S, R-2501W to reflect the new boundaries of R-2501A, R-2501B, R-2501C, R-2501D, and R-2501E. The internal alterations improve airspace efficiency by better compartmentalizing the cumulative impact to the NAS and thus enhance joint-use procedures.

The Rule

This action amends 14 CFR part 73 by removing restricted areas R-2501N, R-2501E, R-2501S, R-2501W and establishing R-2501A, R-2501B, R-2501C, R-2501D, and R-2501E; Bullion Mountains, CA. This action does not alter the overall outer vertical or lateral boundary of the Twentynine Palms complex. The FAA is taking this internal boundary realignment action to allow critical commercial air routes into the Los Angeles basin without impacting training at USMC Air Ground Combat Center, Twentynine Palms, CA.

This is an administrative change that does not alter the boundaries, designated altitudes, or activities conducted within the restricted areas; therefore, notice and public procedure under 5 U.S.C. 553(b) are unnecessary.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending the internal subdivision of certain Restricted Ares within the Twentynine Palms complex, qualifies for categorical exclusion under the National Environmental Policy Act and in accordance with FAA Order 1050.1F, Environmental Impacts: Policies and Procedures, paragraph 5-6.5.d, “Modification of the technical description of special use airspace (SUA) that does not alter the dimensions, altitudes, or times of designation of the airspace (such as changes in designation of the controlling or using agency, or correction of typographical errors).” This airspace action is an administrative change to the internal subdivision of Restricted Areas within the Twentynine Palms complex. It does not alter the dimensions, altitudes, time of designation, or use of the airspace. Therefore, this airspace action is not expected to result in any significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.25 [Amended]

2. Section 73.25 is amended as follows:

R-2501E Bullion Mountains, CA [Removed]

R-2501N Bullion Mountains, CA [Removed]

R-2501S Bullion Mountains, CA [Removed]

R-2501W Bullion Mountains, CA [Removed]

R-2501A Bullion Mountains, CA [New]

Boundaries. Beginning at lat. 34°43′00 N, long. 116°26′23″ W; to lat. 34°43′00″ N, long. 116°17′03″ W; to lat. 34°39′24″ N, long. 116°29′19″ W; to lat. 34°40′30″ N, long. 116°29′43″ W; to the point of beginning.

Designated altitudes. Unlimited.

Time of designation. Continuous.

Controlling agency. FAA, Los Angeles ARTCC.

Using agency. Commanding General Marine Corps Base, Twentynine Palms, CA.

R-2501B Bullion Mountains, CA [New]

Boundaries. Beginning at lat. 34°39′24″ N, long. 116°29′19″ W; to lat. 34°43′00″ N, long. 116°17′03″ W; to lat. 34°41′15″ N, long. 116°04′33″ W; to lat. 34°41′00″ N, long.116°03′03″ W; to lat. 34°31′30″ N, long. 116°26′48″ W; to lat. 34°36′00″ N, long. 116°28′03″ W; to the point of beginning.

Designated altitudes. Unlimited.

Time of designation. Continuous.

Controlling agency. FAA, Los Angeles ARTCC.

Using agency. Commanding General, Marine Corps Base, Twentynine Palms, CA.

R-2501C Bullion Mountains, CA [New]

Boundaries. Beginning at lat. 34°31′30″ N, long. 116°26′48″ W; to lat. 34°41′00″ N, long. 116°03′03″ W; to lat. 34°35′30″ N, long. 115°58′03″ W; to lat. 34°34′40″ N, long.115°54′58″ W.; to lat. 34°33′41″ N, long. 115°50′24″ W; to lat. 34°21′35″ N, long. 116°21′38″ W; to lat. 34°30′00″ N, long. 116°26′23″ W; to the point of beginning.

Designated altitudes. Unlimited.

Time of designation. Continuous.

Controlling agency. FAA, Los Angeles ARTCC.

Using agency. Commanding General, Marine Corps Base, Twentynine Palms, CA.

R-2501D Bullion Mountains, CA [New]

Boundaries. Beginning at lat. 34°21′35″ N, long. 116°21′38″ W; to lat. 34°33′41″ N, long. 115°50′24″ W; to lat. 34°33′00″ N, long. 115°47′03″ W; to lat. 34°25′00″ N, long.115°47′03″ W; to lat. 34°25′00″ N, long. 115°44′03″ W; to lat. 34°17′00″ N, long. 115°44′03″ W; to lat. 34°14′01″ N, long. 115°59′00″ W; to lat. 34°14′00″ N, long. 116°17′03″ W; to lat. 34°19′30″ N, long. 116°20′29″ W; to the point of beginning.

Designated altitudes. Unlimited.

Time of designation. Continuous.

Controlling agency. FAA, Los Angeles ARTCC.

Using agency. Commanding General, Marine Corps Base, Twentynine Palms, CA.

R-2501E Bullion Mountains, CA [New]

Boundaries. Beginning at lat. 34°17′00″ N, long. 115°44′03″ W; to lat. 34°14′00″ N, long. 115°44′03″ W; to lat. 34°14′01″ N, long. 115°59′00″ W; to the point of beginning.

Designated altitudes. Unlimited.

Time of designation. Continuous.

Controlling agency. FAA, Los Angeles ARTCC.

Using agency. Commanding General, Marine Corps Base, Twentynine Palms, CA.

* * * * *

Issued in Washington, DC, on March 12, 2018.
Rodger A. Dean, Jr.,
Manager, Airspace Policy Group.

[FR Doc. 2018-05586 Filed 3-19-18; 8:45 am]

BILLING CODE 4910-13-P